POSTAL SERVICE

39 CFR Part 111

Priority Mail Express Delivery Times

AGENCY: Postal Service™.

ACTION: Final rule.

SUMMARY: The Postal Service is amending Mailing Standards of the United States Postal Service, Domestic Mail Manual (DMM®) in various sections to revise the Priority Mail Express® delivery times and to eliminate the optional 10:30 a.m. delivery time.

DATES: Effective Date: May 23, 2021.

FOR FURTHER INFORMATION CONTACT: Markes Lucius at (202) 268-6170, Denis Baranov (202) 268-4880, or Garry Rodriguez at (202) 268-7281.

SUPPLEMENTARY INFORMATION: Currently, the Priority Mail Express service guarantee delivery times for most domestic mail including Priority Mail Express Military Service® and Hold For Pickup service are 12:00 p.m. or 3:00 p.m. as designated by the 3-digit or 5-digit destination ZIP® Code delivery areas and defined in the Priority Mail Express Delivery directory. The Postal Service is revising the 12:00 p.m. and 3:00 p.m. Priority Mail Express service guarantee delivery times to 6:00 p.m. The Postal Service is also eliminating the optional 10:30 a.m. delivery time.

The revisions to the Priority Mail Express service guarantee delivery times and elimination of the optional 10:30 a.m. delivery time will enable the Postal Service to improve the quality of service and provide a more efficient customer experience.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

100 Retail Mail Letters, Cards, Flats, and Parcels

* * * * *

110 Retail Mail Priority Mail Express

113 Prices and Eligibility

1.0 Prices and Fees

* * * * *

[Delete 1.6, “Optional Delivery Fee” in its entirety.]

* * * * *

4.0 Service Features of Priority Mail Express

* * * * *

4.2 Priority Mail Express 1-Day Delivery

* * * * *

4.2.3 Delivery Time

[Revise the first sentence of 4.2.3 to read as follows:]

Items are delivered by 6 p.m. on the next delivery day. * * *

4.2.4 Hold for Pickup

[Revise the text of 4.2.4 to read as follows:]

Except for Priority Mail Express mailpieces containing cremated remains, under Hold for Pickup service, items presented under 4.2 are available for pickup by the addressee at the destination facility by 6:00 p.m. of the next day that the destination office is open for retail business.

4.3 Priority Mail Express 2-Day Delivery

* * * * *

4.3.3 Delivery Time

[Revise the text of 4.3.3 to read as follows:]

Items are delivered by 6 p.m. on the second delivery day. If delivery is not made, the addressee is notified. A reminder notice is left on the third day after the attempted delivery. A second delivery is attempted only upon customer request.

4.3.4 Hold for Pickup

[Revise the text of 4.3.4 to read as follows:]

Except for Priority Mail Express mailpieces containing cremated remains, under Hold for Pickup service, items presented under 4.3 are available for pickup by the addressee at the destination facility by 6:00 p.m. of the second delivery day that the destination office is open for retail business.

* * * * *

200 Commercial Mail Letters, Flats, and Parcels

* * * * *

210 Commercial Mail Priority Mail Express

213 Prices and Eligibility

1.0 Prices and Fees

* * * * *

[Delete 1.8, “Optional Delivery Fee” in its entirety and renumber 1.9 as 1.8.]

* * * * *

4.2 Priority Mail Express 1-Day Delivery

* * * * *

4.2.3 Delivery Times

[Revise the text of 4.2.3 to read as follows:]

Except for items endorsed “Guaranteed by End of Day” per an approved customer agreement, items are delivered by 6 p.m. on the next delivery day. If delivery is not made, the addressee is notified. A reminder notice is left on the third day after the attempted delivery. A second delivery is attempted only upon customer request.

4.2.4 Hold for Pickup

[Revise the text of 4.2.4 to read as follows:]

Except for Priority Mail Express mailpieces containing cremated remains, under Hold for Pickup service, items presented under 4.2 are available for pickup by the addressee at the destination facility by 6 p.m. of the next day that the destination office is open for retail business.

4.3 Priority Mail Express 2-Day Delivery

* * * * *

4.3.3 Delivery Times

[Revise the text of 4.3.3 to read as follows:]

Except for items endorsed “Guaranteed by End of Day” per an approved customer agreement, items are delivered by 6 p.m. on the second delivery day. If delivery is not made, the addressee is notified. A reminder notice is left on the third day after the attempted delivery. A second delivery is attempted only upon customer request.

4.3.4 Hold for Pickup

[Revise the text of 4.3.4 to read as follows:]

Except for Priority Mail Express mailpieces containing cremated remains, under Hold for Pickup service, items presented under 4.3 are available for pickup by the addressee at the destination facility by 6 p.m. of the second delivery day that the destination office is open for retail business.

* * * * *

600 Basic Standards For All Mailing Services

* * * * *

604 Postage Payment Methods and Refunds

* * * * *

9.0 Exchanges and Refunds

* * * * *

9.2 Postage and Fee Refunds

* * * * *

9.2.1 General Standards

A refund for postage and fees may be made:

* * * * *

[Revise the text of item e to read as follows:]

e. Under 9.5 for Priority Mail Express postage and Sunday/holiday premium fee refunds.

* * * * *

9.2.5 Applying for Refund

A customer may apply for refunds under 9.2, as follows:

[Revise the first sentence of item a to read as follows:]

a. Online (preferred) at www.USPS.com/help: For domestic, Priority Mail Express (postage, Sunday/holiday premium fee), and for Certified Mail, Return Receipt (hardcopy and electronic), Signature Confirmation, and USPS Tracking (USPS Marketing Mail only), extra services only. * * *

* * * * *

9.5 Priority Mail Express Postage and Fees Refunds

9.5.1 Priority Mail Express 1-Day and 2-Day Delivery

[Revise the text of 9.5.1 to read as follows:]

For Priority Mail Express 1-Day and 2-Day Delivery, the USPS refunds the postage and Sunday or holiday premium fee for an item not delivered, for an item for which delivery was not attempted, or if the item was not made available for claim by the delivery date and time specified at the time of mailing, subject to the standards for this service, unless the delay was caused by one of the situations in 9.5.5.

* * * * *

700 Special Standards

703 Nonprofit USPS Marketing Mail and Other Unique Eligibility

* * * * *

2.0 Overseas Military and Diplomatic Post Office Mail

* * * * *

2.6 Priority Mail Express Military Service (PMEMS)

* * * * *

2.6.5 To APO/FPO and DPO Destinations

[Revise the text of 2.6.5 to read as follows:]

Under PMEMS, items mailed to APO/FPO and DPO destinations (from the United States) are available for delivery at the destination APO/FPO or DPO Post Office by 6:00 p.m. on the designated delivery day.

2.6.6 From APO/FPO and DPO Destinations

[Revise the text of 2.6.5 to read as follows:]

Under PMEMS, items mailed from APO/FPO and DPO locations (going to the United States) are delivered to an addressee within the delivery area of the destination Post Office by 6:00 p.m. on the designated delivery day.

* * * * *

Ruth B. Stevenson,
Attorney, Federal Compliance.

[FR Doc. 2021-06648 Filed 3-29-21; 4:15 pm]

BILLING CODE P